DEPARTMENT OF ENERGY

Federal Energy Regulatory Commission

[Docket No. PR04-2-000]

The Peoples Gas Light and Coke Company; Notice Shortening Answer Period

March 31, 2004.

On March 26, 2004, the Peoples Gas Light and Coke Company filed a proposed Stipulation and Agreement (Settlement), in the above-docketed proceeding. By this notice, the period for the filing of initial comments to the Settlement is hereby shortened, to and including April 2, 2004. Reply comments shall be filed on or before April 7, 2004.

Magalie R. Salas,
Secretary.

[FR Doc. E4-773 Filed 4-6-04; 8:45 am]

BILLING CODE 6717-01-P